DEPARTMENT OF COMMERCE

National Oceanic and Atmospheric Administration

RIN 0648-XK54

Marine Mammals; File No. 13602

AGENCY: National Marine Fisheries Service (NMFS), National Oceanic and Atmospheric Administration (NOAA), Commerce.

ACTION: Notice; receipt of application for permit amendment.

SUMMARY: Notice is hereby given that Dr. Terrie Williams, Long Marine Lab, Institute of Marine Sciences, University of California at Santa Cruz, 100 Shaffer Road, Santa Cruz, CA 95060, has applied for an amendment to Scientific Research Permit No. 13602.

DATES: Written, telefaxed, or e-mail comments must be received on or before June 21, 2010.

ADDRESSES: The application and related documents are available for review by selecting “Records Open for Public Comment” from the Features box on the Applications and Permits for Protected Species home page, https://apps.nmfs.noaa.gov, and then selecting File No. 13602 from the list of available applications.

These documents are also available upon written request or by appointment in the following offices:

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Amy Sloan or Jennifer Skidmore, (301)713-2289.

SUPPLEMENTARY INFORMATION: The subject amendment to Permit No. 13602 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 13602, issued on September 4, 2009 (74 FR 46569), authorizes the permit holder to conduct research on captive and rehabilitating non-listed marine mammals to compare the energetic responses and diving physiology of odontocetes and pinnipeds to determine key physiological factors required for survival and to assist in management decisions for wild populations. The permit expires on September 7, 2014.

The permit holder is requesting authorization to include physiological research on up to 18 captive Hawaiian monk seals (Monachus schauinslandi) in facilities in the United States, and opportunistic energetic assessments on stranded ESA-listed marine mammals under NMFS jurisdiction undergoing rehabilitation in California, using methods currently approved in Permit No.13602. In addition to the energetic assessments, the following research would be conducted on captive Hawaiian monk seals: deuterium oxide and Evan's blue administration, blood sampling, blubber ultrasound; and administration of thyroid stimulating hormone and fecal sampling. The applicant requests the transfer and use of tissues (brain and skeletal muscle) from Hawaiian monk seal carcasses and other dead ESA-listed marine mammal species for assessment of oxygen stores and aerobic dive limits. The amendment is requested for the duration of the permit.

Concurrent with the publication of this notice in the Federal Register, NMFS is forwarding copies of this application to the Marine Mammal Commission and its Committee of Scientific Advisors.

Dated: May 14, 2010.
P. Michael Payne,
Chief, Permits, Conservation and Education Division, Office of Protected Resources, National Marine Fisheries Service.

[FR Doc. 2010-12124 Filed 5-19-10; 8:45 am]

BILLING CODE 3510-22-S